OFFICE OF PERSONNEL MANAGEMENT

Hispanic Council on Federal Employment

AGENCY: Office of Personnel Management.

ACTION: Renewal of advisory committee.

SUMMARY: The U.S. Office of Personnel Management announces the renewal of the Hispanic Council on Federal Employment (Council). The Commission shall advise the Director of the U.S. Office of Personnel Management (OPM) on the implementation of leading employment practices in an effort to remove any unnecessary barriers to the recruitment, hiring, retention and advancement of Hispanics in the Federal workplace. The Council is an advisory committee composed of Federal employees and Hispanic organizations.

FOR FURTHER INFORMATION CONTACT: Veronica E. Villalobos, Director, Office of Diversity and Inclusion, U.S. Office of Personnel Management, 1900 E St. NW., Suite 5H35, Washington, DC 20415. Phone (202) 606-0020 Fax (202) 606-6042 or email at diversityandinclusion@opm.gov.

SUPPLEMENTARY INFORMATION: The charter for the Hispanic Council on Federal Employment publishes as follows:

1. Committee's Official Designation (Title). The Hispanic Council on Federal Employment.

2. Authority. This charter establishes the Hispanic Council on Federal Employment in accordance with the provisions of the Federal Advisory Committee Act (FACA), as amended, 5 U.S.C. App. The Commission is in the public interest and supports the U.S. Office of Personnel Management (OPM) in performing its duties and responsibilities under 5 CFR part 950.

3. Objectives and Scope of Activities. The purpose of the Commission is to advise the Director of OPM on the implementation of leading employment practices in an effort to remove any unnecessary barriers to the recruitment, hiring, retention and advancement of Hispanics in the Federal workplace.

4. Description of Duties. The Council shall provide recommendations to the Director of OPM on the implementation of initiatives involving the recruitment, hiring, and advancement of Hispanics in the Federal workforce. Its activities shall include, to the extent permitted by the law:

a. Reviewing leading practices in strategic human resources management planning;

b. Providing advice on ways to increase outreach to Hispanic communities, with a focus on Veterans, students, and people with disabilities;

c. Recommending any further actions, as appropriate, to address the underrepresentation of Hispanics in the Federal workforce where it occurs;

d. Recommending any further actions, as appropriate, to promote successful retention and advancement efforts including training of department and agency personnel;

e. Implementing recommendations for innovative ways to improve the dissemination of information about Federal employment to the Hispanic communities; and

f. Recommending any further actions, as appropriate, to address the underrepresentation of Hispanics in the Federal workforce where it occurs.

5. Agency Official to Whom the Commission Reports. The Commission will report recommendations to the OPM Director.

6. Support. OPM is responsible for providing administrative services and support to the Commission.

7. Estimated Annual Operating Costs and Staff Years. The estimated annual operating expenses of the Council are $12,000.00 (.25 FTE). These expenses include funds to cover actual staff time (including benefits) devoted to preparation for meetings and technical discussions at meetings, expenses for preparing and printing discussion materials and administrative costs for filing the charter, preparing Federal Register notices, preparing minutes of the meetings, etc.

8. Designated Federal Officer (DFO). The Director of the Office of Diversity and Inclusion, at OPM shall be appointed as the DFO of the Council. The DFO will approve or call all Council and subcommittee meetings, prepare and approve all meeting agendas, attend all Council and subcommittee meetings, adjourn any meeting when they determine adjournment to be in the public interest, and chair meetings when directed to do so by the official to whom the Council reports.

9. Estimated Number of Frequency of Meetings. The frequency of meetings will be determined by the Co-Chair of the Council with the approval of the DFO, and the committee is expected to convene once every two months.

10. Duration. It is expected that the Commission will conclude its work in approximately one year.

11. Termination. December 31, 2013.

12. Membership and Designation. The Council will include a total of approximately 22 Federal workers and non-government individuals, including Regular Government Employees and Representative Members. The Council members will represent various perspectives from Hispanic that have experience in working on Federal employee, Hispanic student, Veterans, persons with disabilities and/or employment issues affecting Hispanic communities, while other Council members will provide technical expertise regarding strategic human resources management planning and the merit systems principles.

The Director of OPM may also designate other members of the Council. Such additional members may include, but are not limited to:

(1) The Chief Human Capital Officers of other Executive agencies; and

(2) Members who are designated on an ex officio basis and who may be invited to contribute to projects, as particular skills and expertise are needed.

13. Subcommittees. The Co-Chairs of the Council, with the Agency's approval, are responsible for directing the work of the Council, including the creation of subcommittees necessary to carry out the Council's mandate. All subcommittees will report to the Council and will not provide advice directly to the Agency.

14. Recordkeeping. The records of the Council, as well as any formally and informally established subcommittees, shall be maintained in accordance with General Records Schedule 26, Item 2 or other appropriate agency records disposition schedule. These records shall be available for public inspection and copying, subject to applicable exemptions of the Freedom of Information Act, 5 U.S.C. 552.

U.S. Office of Personnel Management.
John Berry,
Director.

[FR Doc. 2012-31337 Filed 12-28-12; 8:45 am]

BILLING CODE 6325-46-P